DEPARTMENT OF EDUCATION

National Assessment Governing Board; Meeting

AGENCY: National Assessment Governing Board; U.S. Department of Education.

ACTION: Notice of open teleconference meeting.

SUMMARY: This notice sets forth the schedule and proposed agenda of a forthcoming teleconference meeting of the Assessment Development Committee of the National Assessment Governing Board. This notice also describes the functions of the Board. Notice of this meeting is required under section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than February 10, 2004. We will attempt to meet requests after this date, but cannot guarantee availability of the requested accommodation. The meeting site is accessible to individuals with disabilities.

Date: February 14, 2005.

Time: 3 p.m.-4:30 p.m.

Location: National Assessment Governing Board, 800 North Capitol Street, NW., Suite #825, Washington, DC 20002.

FOR FURTHER INFORMATION CONTACT: Munira Mwalimu, Operations Officer, National Assessment Governing Board, 800 North Capitol Street, NW., Suite #825, Washington, DC 20002-4233, telephone: (202) 357-6938.

On February 14, 2005, the Assessment Development Committee will hold a teleconference meeting from 3 p.m. to 4:30 p.m. to discuss and take action, on behalf of the National Assessment Governing Board on a concept paper which examines the National Assessment of Educational Progress (NAEP) reading framework in the context of preparedness for college and the workplace. The concept paper was prepared for the Governing Board under contract with Achieve, Inc.

A transcript of the teleconference, and other related matters which are informative to the public and consistent with the policy of the section 5 U.S.C. 552b(c), will be available to the public within 14 days after the meeting. Records are kept of all Board proceedings and are available for public inspection at the U.S. Department of Education, National Assessment Governing Board, Suite #825, 800 North Capitol Street, NW., Washington, DC from 8:30 a.m. to 5 p.m.

Dated: January 31, 2005.
Charles E. Smith,
Executive Director, National Assessment Governing Board.

[FR Doc. 05-2109 Filed 2-3-05; 8:45 am]

BILLING CODE 4000-01-M